DEPARTMENT OF THE INTERIOR

Bureau of Ocean Energy Management, Regulation and Enforcement Outer Continental Shelf (OCS) Scientific Committee (SC); Announcement of Plenary Session

AGENCY: Bureau of Ocean Energy Management, Regulation and Enforcement (BOEM), Interior.

ACTION: Notice of meeting.

SUMMARY: The OCS Scientific Committee will meet at the Embassy Suites Dulles North in Ashburn, Virginia.

DATES: Tuesday, September 14, 2010, from 9 a.m. to 5 p.m.; Wednesday, September 15, 2010, from 8 a.m. to 4:30 p.m.; and Thursday, September 16, 2010, from 10 a.m. to 4 p.m.

ADDRESSES: Embassy Suites Dulles North, 44610 Waxpool Road, Ashburn, Virginia 20147, telephone (703) 723-5300.

FOR FURTHER INFORMATION CONTACT: A copy of the agenda may be requested from BOEM by e-mailing Ms. Carolyn Beamer at carolyn.beamer@boemre.gov. Other inquiries concerning the OCS SC meeting should be addressed to Dr. James Kendall, Executive Secretary to the OCS SC, Bureau of Ocean Energy Management, Regulation and Enforcement, 381 Elden Street, Mail Stop 4043, Herndon, Virginia 20170-4817, or by calling (703) 787-1656 or via e-mail at james.kendall@boemre.gov.

SUPPLEMENTARY INFORMATION: The OCS SC will provide advice on the feasibility, appropriateness, and scientific value of the OCS Environmental Studies Program to the Secretary of the Interior through the Director of the BOEM. The SC will review the relevance of the research and data being produced to meet BOEM scientific information needs for decision making and may recommend changes in scope, direction, and emphasis.

The Committee will meet in plenary session on Tuesday, September 14. The Director will address the Committee on the general status of the BOEM and its activities. There will be a presentation from the National Oceanic and Atmospheric Administration on the Natural Resource Damage Assessment process and U.S. Geological Survey science with respect to the Deepwater Horizon incident. Following these presentations BOEM regional officials will discuss their most pertinent and current issues.

On Wednesday, September 15, the Committee will meet in discipline breakout sessions (i.e., biology/ecology, physical sciences, and social sciences) to review the specific studies plans of the BOEM regional offices for Fiscal Years 2011-2013.

On Thursday, September 16, the Committee will meet in plenary session for reports of the individual discipline breakout sessions of the previous day and to continue with Committee business.

The meetings are open to the public. Approximately 30 visitors can be accommodated on a first-come-first-served basis at the plenary session.

Authority: Federal Advisory Committee Act, Public Law 92-463, 5 U.S.C., Appendix I, and the Office of Management and Budget's Circular A-63, Revised.

Dated: August 18, 2010.
Robert P. LaBelle,
Acting Associate Director for Offshore, Energy and Minerals Management.

[FR Doc. 2010-21251 Filed 8-25-10; 8:45 am]

BILLING CODE 4310-MR-P